ENVIRONMENTAL PROTECTION AGENCY

[EPA-HQ-OPPT-2014-0838; FRL-9117-01-OCSPP]

Agency Information Collection Activities; Proposed Reinstatement of an Existing Collection and Request for Comment; Assessment of Environmental Performance Standards and Ecolabels for Federal Procurement

AGENCY: Environmental Protection Agency (EPA).

ACTION: Notice.

SUMMARY: In compliance with the Paperwork Reduction Act (PRA), this document announces that EPA is planning to submit an Information Collection Request (ICR) to the Office of Management and Budget (OMB) entitled: “Assessment of Environmental Performance Standards and Ecolabels for Federal Procurement” and identified by EPA ICR No. 2516.04 and OMB Control No. 2070-0199. This is a request to reinstate a previously approved ICR as revised in order to allow the information collection to implement the Framework for the Assessment of Environmental Performance Standards and Ecolabels for Federal Purchasing (Framework). Before submitting the ICR to OMB for review and approval under the PRA, EPA is soliciting comments on specific aspects of the proposed information collection that is summarized in this document. The ICR and accompanying material are available in the docket for public review and comment.

DATES: Comments on the proposed ICR must be received on or before May 2, 2022.

ADDRESSES: Submit your comments on the proposed ICR identified by docket identification (ID) number EPA-HQ-OPPT-2014-0838, though the Federal eRulemaking Portal at http://www.regulations.gov. Follow the online instructions for submitting comments. Do not submit electronically any information you consider to be Confidential Business Information (CBI) or other information whose disclosure is restricted by statute. Additional instructions on commenting or visiting the docket, along with more information about dockets generally, is available at http://www.epa.gov/dockets.

Due to the public health concerns related to COVID-19, the EPA Docket Center (EPA/DC) and Reading Room is opened to visitors by appointment only. For the latest status information on EPA/DC and docket access, visit https://www.epa.gov/dockets.

FOR FURTHER INFORMATION CONTACT: For general information contact: Katherine Sleasman, Regulatory Support Branch (7101M), Office of Chemical Safety and Pollution Prevention, Environmental Protection Agency, 1200 Pennsylvania Ave. NW, Washington, DC 20460-0001; telephone number: (202) 566-1204; email address: sleasman.katherine@epa.gov.

For technical information contact: Alison Kinn Bennett, Data Gathering and Analysis Division (7406M), Office of Pollution Prevention and Toxics, Environmental Protection Agency, 1200 Pennsylvania Ave. NW, Washington, DC 20460-0001; telephone number: (202) 564-8859; kinn.alison@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses/organizations (those that employ less than 25) on examples of specific additional efforts that EPA could make to reduce the paperwork burden for very small businesses/organizations affected by this collection.

II. What information collection activity or ICR does this action apply to?

Title: Assessment of Environmental Performance Standards and Ecolabels for Federal Procurement.

ICR numbers: EPA ICR No. 2516.04; OMB Control No. 2070-0199.

ICR status: This ICR is a reinstatement. An Agency may not conduct or sponsor, and a person is not required to respond to, a collection of information, unless it displays a currently valid OMB control number. The OMB control numbers for EPA's regulations in title 40 of the Code of Federal Regulations (CFR), after appearing in the Federal Register when approved, are displayed either by publication in the Federal Register or by other appropriate means, such as on the related collection instrument or form, if applicable. The display of OMB control numbers for certain EPA regulations is consolidated in 40 CFR part 9.

Abstract: This ICR covers the information that will be requested to be submitted to the Agency to evaluate private sector standards and ecolabels under the updated Framework for the Assessment of Environmental Performance Standards and Ecolabels for Federal Purchasing. EPA's goal in developing this Framework is to create a transparent, fair, and consistent approach to evaluate product environmental performance standards and ecolabels for inclusion in EPA's Recommendations of Specifications, Standards, and Ecolabels for Federal Purchasing (“Recommendations”). The Recommendations help federal purchasers identify and procure environmentally preferable products and services which in turn, help to meet their sustainability goals and requirements.

EPA is engaging in this collection pursuant to the authority in the Pollution Prevention Act (42 U.S.C.A. section 13103(b)(11) which requires EPA to “Identify opportunities to use Federal procurement to encourage source reduction” and section 12(d) of the “National Technology Transfer and Advancement Act of 1995” (15 U.S.C. 3701), which requires Federal agencies to “use technical standards that are developed or adopted by voluntary consensus standards bodies, using such technical standards as a means to carry out policy objectives or activities.” In addition, OMB Circular A-119 (titled “Federal Participation in the Development and Use of Voluntary Consensus Standards and in Conformity Assessment Activities”) reaffirms Federal agency use of private sector standards in procurement and the Federal Acquisition Regulation (FAR) Part 23.703(b)(1) directs Federal agencies to “Maximize the utilization of environmentally preferable products and services (based on EPA-issued guidance)”. On December 8, 2021, Executive Order 14057, titled “Catalyzing Clean Energy Industries and Jobs through Federal Sustainability” was issued (86 FR 70935, December 8, 2021). Pursuant to section 510(a) of the Executive Order, a memorandum was issued by the Director of the OMB, in coordination with the Chair of the Council on Environmental Quality (CEQ) and the National Climate Advisor that provides direction on immediate actions and further requirements to meet the policies and goals of the Executive Order available here at: https://www.whitehouse.gov/wp-content/uploads/2021/12/M-22-06.pdf. The memorandum establishes EPA Recommendations of Specifications, Standards, and Ecolabels for Federal Purchasing as a program that identifies sustainable products and services for purposes of meeting the Executive Order goals and requirements available here at: https://www.epa.gov/greenerproducts/recommendations-specifications-standards-and-ecolabels-federal-purchasing.

The fundamental aim of this Framework is to establish a cross-sector approach to be used in recognizing private sector environmental standards (and consequently, environmentally preferable products and services meeting these standards) for use in federal purchasing. The Framework includes scoping questions and four sections:

• Criteria for the Process for Developing Standards refers to the procedures used to develop, maintain, and update an environmental performance standard.

• Criteria for the Environmental Effectiveness of the Standards refers to the criteria in the environmental performance standard or ecolabel that support the claim of environmental preferability.

• Criteria for Conformity Assessment refers to the procedures and practices by which products are assessed for conformity to the requirements specified by standards and ecolabeling programs.

• Criteria for Management of Ecolabeling Programs refers to the organizational and management practices of an ecolabeling program.

In 2016, EPA conducted a pilot to test the original set of criteria within the Framework against standards and ecolabels in the flooring, furniture, and paints/coatings categories. EPA has made several edits to the Framework based on lessons learned from the pilot and the desire to address a broader range of sectors with a more streamlined set of criteria. In this next phase of work, EPA intends to expand its recommendations by assessing standards and ecolabels in purchase categories that support Executive Order 14057 and Executive Order 14008, entitled: “Tackling the Climate Crisis at Home and Abroad” (86 FR 7619, February 1, 2021).

The ICR, which is available in the docket along with other related materials, provides a detailed explanation of the collection activities and the burden estimate that is only briefly summarized here.

Burden statement: The annual public reporting and recordkeeping burden for this collection of information is estimated to be 8.5 hours per response on average. Burden is defined in 5 CFR 1320.3(b).

Respondents/Affected Entities: You may be potentially affected by this action if you develop, manage, or certify products/services to environmental performance standards and ecolabels.

Respondent's obligation to respond: Voluntary. See 15 U.S.C. 3701 and 42 U.S.C. 13103(b)(11).

Estimated total number of potential respondents: 100.

Frequency of response: On occasion.

Estimated total average number of responses for each respondent: 2.

Estimated total annual burden hours: 707 hours.

Estimated total annual costs: $45,322, which includes an estimated cost of $0 for capital investment or maintenance and operational costs.

III. Are there changes in the estimates from the last approval?

This is a request to reinstate an ICR approval that is currently not active. That means that there is currently no approved burden hours or costs, and this ICR will therefore be treated as resulting in increased burden of 707 hours.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

(Authority: 44 U.S.C. 3501 et seq.)

Dated: February 23, 2022.
Michal Freedhoff,
Assistant Administrator, Office of Chemical Safety and Pollution Prevention.

[FR Doc. 2022-04237 Filed 2-28-22; 8:45 am]

BILLING CODE 6560-50-P